ENVIRONMENTAL PROTECTION AGENCY

[EPA-HQ-OPP-2018-0014; FRL-10020-35]

Triadimefon; Rescissions of Previously Issued Cancellation Orders

AGENCY: Environmental Protection Agency (EPA).

ACTION: Notice.

SUMMARY: This notice announces EPA's rescission of two previously issued cancellation orders for seven triadimefon product registrations that have not yet become effective. Specifically, this notice rescinds cancellation orders announced in two previously issued Federal Register Notices from January 12, 2021, 2020 (FRL-10017-33) and August 25, 2020 (FRL-10013-65). These cancellation orders are being rescinded to the extent they are applicable to Bayer's triadimefon products. This notice rescinds the cancellation orders for Bayer's triadimefon registrations listed in Table 1.

DATES: These rescissions are effective February 18, 2021.

FOR FURTHER INFORMATION CONTACT: Matthew B. Khan, Pesticide Reevaluation Division (7502P), Office of Pesticide Programs, Environmental Protection Agency, 1200 Pennsylvania Ave. NW, Washington, DC 20460-0001; telephone number: (703) 347-8613 email address: Khan.Matthew@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2018-0014, is available at http://www.regulations.gov or at the Office of Pesticide Programs Regulatory Public Docket (OPP Docket) in the Environmental Protection Agency Docket Center (EPA/DC), West William Jefferson Clinton Bldg., Rm. 3334, 1301 Constitution Ave. NW, Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What action is the Agency taking?

EPA is rescinding cancellation orders for seven triadimefon product registrations issued in two Federal Register Notices, a January 12, 2021 Federal Register Notice (86 FR 2415) (FRL-10017-33) and an August 25, 2020 Federal Register Notice (85 FR 52347) (FRL-10013-65) to the extent they are applicable to Bayer's triadimefon products. Based on the current status of the triadimefon review, and given the low frequency and severity of incidents, EPA is rescinding these voluntary cancellations as requested by Bayer. This order rescinds the cancellation orders for Bayer's triadimefon registrations listed in Table 1 of this unit.

Table 1—Triadimefon Products
EPA registration No. | Product name
264-736 | Bayleton Technical Fungicide.
264-740 | Bayleton 50% Concentrate.
432-1360 | Bayleton 50 Turf and Ornamental Fungicide in Water Soluble Packets.
432-1367 | Bayleton 50 WDG Nursery and Greenhouse Systemic Fungicide.
432-1445 | Bayleton Flo Turf and Ornamental Fungicide.
432-1446 | Tartan Fungicide.
432-1513 | Armada 50 WDG.

Authority: 7 U.S.C. 136 et seq.

Dated: February 3, 2021.
Mary Reaves,
Director, Pesticide Re-evaluation Division, Office of Pesticide Programs.

[FR Doc. 2021-03225 Filed 2-17-21; 8:45 am]

BILLING CODE 6560-50-P